DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 19, 2008.

FOR FURTHER INFORMATION CONTACT: Ms. Lorenza Wilds, IRSAC Program Manager, National Public Liaison, CL:NPL, 7559, 1111 Constitution Avenue, NW., Washington, DC 20224. Telephone: 202-622-5188 (not a toll-free number). E-mail address: *public_liaison@irs.gov .

SUPPLEMENTARY INFORMATION: Notice is hereby given pursuant to section 10(a)(2) of the Federal Advisory Committee Act, 5 U.S.C. App. (1988), a public meeting of the IRSAC will be held on Wednesday, November 19, 2008, from 9 a.m. to 1 p.m. at IRS Headquarters, 1111 Constitution Avenue, NW., Room 3313, Washington, DC 20224. Issues to be discussed include: Increased IRS Transparency in Issue Development, Compliance Risk Management Process, Identification of Paid Preparers, Extended Due Date of Partnerships, Real Estate Mortgage Investment Conduits (REMICS) and Certain Trusts that File Fiduciary Tax Returns, Irs.gov EITC Enhancements, and Communication Strategy—Changes to Regulations 301.7216—Disclosure and Use of Tax Return Data by Tax Return Preparers, Corporate Tax Gap—Yield Curves, National Research Project (NRP) Individual and S-Corp Studies. Reports from the four IRSAC sub-groups, Large and Mid-size Business, Small Business/Self-Employed, Wage & Investment, and Tax Gap Analysis will also be presented and discussed. Last minute agenda changes may preclude advanced notice. The meeting room accommodates approximately 80 people, IRSAC members and Internal Revenue Service officials inclusive. Due to limited seating, please call Lorenza Wilds to confirm your attendance. Ms. Wilds can be reached at 202-622-5188. Attendees are encouraged to arrive at least 30 minutes before the meeting begins. Should you wish the IRSAC to consider a written statement, please call 202-622-5188, or write to: Internal Revenue Service, Office of National Public Liaison, CL:NPL:7559, 1111 Constitution Avenue, NW., Washington, DC 20224 or e-mail: *public_liaison@irs.gov.

Dated: October 22, 2008.
Carl Medley,
Designated Federal Official, Branch Chief, Liaison/Tax Forum Branch.

[FR Doc. E8-25855 Filed 10-29-08; 8:45 am]

BILLING CODE 4830-01-P